NATIONAL AERONAUTICS AND SPACE ADMINISTRATION

[NASA Document No: NASA-24-040; NASA Docket No: NASA-24-0003]

Request for Comments: Biosketch and Current and Pending Support Disclosure Policy

AGENCY: National Aeronautics and Space Administration.

ACTION: Notice of information collection.

SUMMARY: National Aeronautics and Space Administration's (NASA) Grants Policy and Compliance (GPC) in the Office of Procurement is soliciting public comment on the Agency's forthcoming policy on disclosures made in grant applications and annual certifications.

DATES: Comments must be received by July 30, 2024.

ADDRESSES: Written comments and recommendations for this information collection should be sent within 30 days of publication of this notice. We encourage respondents to submit comments electronically to ensure timely receipt. You may send comments, identified by NASA Docket Number NASA-24-0003 to the Federal e-Rulemaking Portal: https://www.regulations.gov. Follow the online instructions for submitting comments. We encourage you to submit comments electronically through the Federal eRulemaking Portal at http://www.regulations.gov.

FOR FURTHER INFORMATION CONTACT: Requests for additional information should be directed to Senior Policy Analyst, Laila Ouhamou, NASA Headquarters, 300 E Street SW, Rm. 6O87, Washington, DC 20546, phone 202-993-5942, or email laila.ouhamou@nasa.gov.

SUPPLEMENTARY INFORMATION: Section 4(b) of National Security Presidential Memorandum-33 (NSPM-33) directs that “research funding agencies shall require the disclosure of information related to potential conflicts of interest and commitment from participants in the federally funded R&D enterprise . . . The appropriate disclosure requirement varies depending on the individual's role in the United States R&D enterprise.” Section 4(b)(vi) directs that “agencies should standardize forms for initial disclosures as well as annual updates, . . . and should provide clear instructions to accompany these forms and to minimize any associated administrative burden.”

The NSTC Research Security Subcommittee worked to develop consistent disclosure requirements from senior personnel, as well as to develop proposed common disclosure forms for the Biographical Sketch and Current and Pending (Other) Support sections of an application for Federal grants or cooperative agreements. The purpose of the Biographical Sketch is to assess how well qualified the individual, team, or organization is to conduct the proposed activities. The purpose of Current and Pending (Other) Support is to assess the capacity of the individual to carry out the research as proposed and to help identify any potential scientific and budgetary overlap/duplication, as well as overcommitment with the project being proposed. These forms were approved and rolled out by the Office of Science and Technology Policy (OSTP) on February 14, 2024, and NASA plans to implement these new forms starting on October 1, 2024. NASA plans to amend grant guidance materials to incorporate the mandatory use of these forms as outlined at the end of this notice.

These common forms are intended to clarify what is expected of senior personnel applying for NASA grants and cooperative agreements and NASA plans to alter guidance documents to require the use of these forms for senior/key personnel listed in NASA grant applications. For information on what these forms will look like (with minor deviations), interested parties can visit https://www.nsf.gov/bfa/dias/policy/nstc_disclosure.jsp. When finalized, NASA will post the NASA-approved forms on the NASA website for applicants to download, fill out, certify, and submit within their NASA grant application. After an entity receives an award, entities shall disclose new current and pending support activities that have arisen since application in their regular Research Performance Progress Report submission.

NASA also intends on ensuring compliance with the CHIPS and Science Act of 2022, Section 10632, which requires certifications that senior/key personnel are not a party to a malign foreign talent recruitment program, which will have to be recertified annually during the grant award's period of performance. These requirements will also be incorporated into the NASA grant guidance documents as outlined below:

The policy below will be incorporated into the NASA's grant policy documents during the next revision cycle in 2024.

1. Biographical Sketch Disclosures

(a) Purpose. A biographical sketch documents an individual's qualifications and professional experience, and the information is used to assess how well qualified an individual is to conduct proposed award activities. Each senior/key person listed on a NASA grant or cooperative agreement proposal is required to submit biographical sketch disclosures with their application.

(b) Senior/key persons. Per National Security Presidential Memorandum 33 (NSPM-33), a “senior/key person” is defined as an individual who (a) contributes in a substantive, meaningful way to the scientific development or execution of a research and development project proposed to be carried out with a research and development award from a Federal research agency; and (b) is designated as a covered individual by the Federal research agency concerned. NASA will designate as a senior/key person all Principal Investigators (PIs), all co-Principal Investigators (CoPIs), and co-Investigators (Co-Is) proposing to spend 10 percent or more of their time in any given year on a NASA-funded grant or cooperative agreement. NASA program offices may designate additional personnel categories as a senior/key person on a project-by-project basis, and these designations must be explicitly stated in all Notices of Funding Opportunities (NOFO).

(c) Submission. Each senior/key person is responsible for preparing, signing, and submitting a biographical sketch form as part of their proposal. The form is available on the NASA Grants Policy and Compliance website as well as the NASA Shared Services Center website. There is no page limit to the biographical sketch form, and all data elements marked as required shall be submitted to NASA using the form. Senior/key personnel have the option to provide their Persistent Identifier in the “Persistent Identifier (PID) of the Senior/Key Person” section of the form.

i. Applicants are encouraged to digitally sign their disclosure forms. However, if a form with a digital signature is submitted to NASA via the NASA Solicitation and Proposal Integrated Review and Evaluation System (NSPIRES), the system will remove the certification data associated with that digital signature. The signature will still be legible, but NASA will not be able to view any certification data embedded in the form. As such, award recipients shall maintain original forms with digital signatures and make them accessible to NASA in accordance with 2 CFR 200.334, Retention requirements for records, and 200.337, Access to records.

(d) Disclosure table. A table entitled NASA Pre-award and Post-award Disclosure Requirements provides helpful reference information regarding pre-award and post-award disclosures. The table includes the types of activities to be reported, where such activities must be reported in the application, as well as when updates are required in the application and award lifecycle. A final column identifies activities that are not required to be reported.

2. Current and Pending Support Disclosures

(a) Purpose. Current and pending support information is used to assess the capacity of senior/key personnel to carry out proposed award activities and helps NASA assess any potential scientific and budgetary overlap or duplication, as well as conflicts of commitment, with the proposed project. Each senior/key person listed on a NASA grant or cooperative agreement proposal is required to submit current and pending support disclosures with their application.

(b) Senior/key persons. Per NSPM-33, a “senior/key person” is defined as an individual who (a) contributes in a substantive, meaningful way to the scientific development or execution of a research and development project proposed to be carried out with a research and development award from a Federal research agency; and (b) is designated as a covered individual by the Federal research agency concerned. NASA will designate as a senior/key person all Principal Investigators (PIs), all Co-Principal Investigators (CoPIs), and Co-Investigators (Co-Is) proposing to spend 10 percent or more of their time in any given year on a NASA-funded grant or cooperative agreement. NASA program offices are authorized to designate additional personnel categories as a senior/key person on a project-by-project basis, and these designations must be explicitly stated in all Notices of Funding Opportunity (NOFOs).

(c) Submission. Each senior/key person is responsible preparing, signing, and submitting a current and pending support form as part of their proposal. The form is available on the NASA Grants Policy and Compliance website as well as the NASA Shared Services Center website. There is no page limit to the current and pending support form, and all data elements marked as required shall be submitted to NASA using the form. Senior/key personnel have the option to provide their Persistent Identifier in the “Persistent Identifier (PID) of the Senior/Key Person” section of the form.

i. Applicants are encouraged to digitally sign their disclosure forms. However, if a form with a digital signature is submitted to NASA via NSPIRES, the system will remove the certification data associated with that digital signature. The signature will still be legible, but NASA will not be able to view any certification data embedded in the form. As such, award recipients shall maintain original forms with digital signatures and make them accessible to NASA in accordance with 2 CFR 200.334, Retention requirements for records, and 200.337, Access to records.

(d) Disclosure table. A table entitled NASA Pre-award and Post-award Disclosure Requirements provides helpful reference information regarding pre-award and post-award disclosures. The table includes the types of activities to be reported, where such activities must be reported in the application, as well as when updates are required in the application and award lifecycle. A final column identifies activities that are not required to be reported.

(e) Post-award disclosures. After an entity receives an award, entities shall disclose new current and pending support activities that have arisen since submission of the proposal. Entities shall indicate that there are new current and pending support disclosures in the first Research Performance Progress Report (RPPR) that is due to NASA after the new current and pending support has been disclosed to the entity. Entities shall indicate that new current and pending support has been identified in the “Participants & Other Collaborating Organizations” section of the RPPR. If there are new disclosures, senior/key persons must prepare, certify, and submit a revised current and pending support form along with the RPPR. The NASA Pre-award and Post-award Disclosure Requirements table describes which new support requires disclosure as part of performance reports.

(f) Failure to disclose. If an entity discovers that a senior/key person has failed to disclose reportable information in accordance with this section, then the entity shall notify NASA within 30 calendar days per their award's terms and conditions. Upon receipt of the information, NASA will consult with the entity as necessary and take appropriate action.

3. Facilities, Equipment, & Other Resources

(a) Applicants are required to submit a technical narrative for facilities, equipment, and other resources (F&E) that describes any special F&E that are required for the applicant to complete the proposed project. This section of the proposal shall:

i. Describe any required existing F&E for the proposed work effort and whether the recipient already has access to items that are in good working order, or if such items need to be repaired, upgraded, or acquired (see letters of resource support for facilities and equipment not controlled by a member of the proposal team in section X.X of the GCAM);

ii. Disclose the following per the NASA Pre-award and Post-award Disclosure Requirements table:

A. In-kind contributions that support the research activity for use on the project/proposal being proposed, and

B. Postdoctoral scholars, students, or visiting scholars who are supported by an external entity, and whose research activities are intended for use on the project/proposal being proposed; and

iii. Not include any text that belongs in the page-limited Scientific/Technical/Management Plan (e.g., description of the work plan, justifications for perceived impact of the work, descriptions of proposal team roles and responsibilities).

(b) Proposals submitted via Grants.gov shall include F&E as a separate PDF document to be uploaded to the Grants.gov application and titled “Facilities, Equipment, and Other Resources.”

4. Malign Foreign Talent Recruitment Programs

(a) In accordance with the CHIPS and Science Act of 2022, Section 10632 (42 U.S.C. 19232), individuals who are a party to a malign foreign talent recruitment program (MFTRP) shall not serve as senior/key personnel on a NASA grant or cooperative agreement. The definition of MFTRP can be found at 42 U.S.C. 19237(4), and all Principal Investigators (PIs), all Co-Principal Investigators (CoPIs), and Co-Investigators (Co-Is) proposing to spend 10 percent or more of their time in any given year on a NASA-funded grant or cooperative agreement are designated as senior/key personnel.

(b) Upon completing a biographical sketch and current and pending support form, senior/key personnel will be required to sign a certification statement reading “I also certify that, at the time of submission, I am not a party to a malign foreign talent recruitment program.”

i. 42 U.S.C. 19232(a)(1) requires that covered individuals submit a certification stating that they are not a party to a MFTRP annually after proposal submission for the duration of the award. As such, all NASA award recipients shall ensure that senior/key personnel have signed a certification annually stating that they are not a party to a MFTRP. These annual certifications do not have to be submitted to NASA, but award recipients must maintain them in their grant files and make them available to NASA upon request in accordance with 2 CFR 200.334, Retention requirements for records, and 200.337, Access to records.

(c) Upon submitting a proposal in NSPIRES, entities' Authorized Organizational Representatives (AOR) will be required to certify that all senior/key personnel associated with the proposal have been made aware of and have complied with their responsibility under 42 U.S.C. 19232 to certify that they are not a party to a malign foreign talent recruitment program.

5. Consequences for Violation of Disclosure Requirements

(a) If it is determined that a senior/key person failed to disclose required information, NASA may take one or more of the following actions:

i. Reject a proposal;

ii. Suspend or terminate an award;

iii. Temporarily or permanently discontinue any or all funding for the individual or entity;

iv. Preserve an award, but require or otherwise ensure that a senior/key person does not perform work under the award;

v. Suspend or debar recipients as appropriate and consistent with 2 CFR part 180, OMB Guidelines to Agencies on Governmentwide Debarment and Suspension (Nonprocurement) as adopted by NASA at 2 CFR part 1880, Nonprocurement Debarment and Suspension;

vi. Refer the failure to disclose to the NASA Office of Inspector General for further investigation or to Federal law enforcement authorities to determine whether any criminal or civil laws were violated;

vii. Report the individual or entity in SAM.gov to alert other Federal agencies to the noncompliance;

viii. Take one or more of the actions described in 2 CFR 200.339, Remedies for noncompliance; or

ix. Take such other actions against the senior/key person or entity as authorized under applicable law or regulations.

(b) If action is necessary, NASA will adhere to the regulations in 2 CFR 200.340, Termination; 2 CFR 200.341, Notification of termination requirement; and 2 CFR 200.342, Opportunities to object, hearings, and appeals. Additionally, NASA will adhere to the policies in GCAM section 7.13, Appealing a Suspended or Terminated Award, as necessary.

(c) In accordance with the William M. (Mac) Thornberry National Defense Authorization Act for Fiscal Year 2021, Section 223(c)(3) (42 U.S.C. 6605), in the event a senior/key person fails to comply with the NASA's current and pending support disclosure requirements, no enforcement action as identified in 42 U.S.C. 6605(c)(2) for such failure shall be applied to the entity that submitted a proposal unless:

i. The entity did not meet the requirements of 42 U.S.C. 6605(a)(2);

ii. The entity knew that a senior/key person failed to disclose information under 42 U.S.C. 6605(a)(1), and the entity did not take steps to remedy such nondisclosure before the proposal was submitted; or

iii. The NASA Administrator determines that:

A. The entity is owned, controlled, or substantially influenced by a senior/key person; and

B. Such senior/key person knowingly failed to disclose information under 42 U.S.C. 6605(a)(1).

6. Certifications, Assurances, and Representations, Are Revised as Follows

C5. Certification Regarding Disclosure Requirements in the William M. (Mac) Thornberry National Defense Authorization Act for Fiscal Year 2021, Section 223(a)(1) (42 U.S.C. 6605(a)(1)).

By submission of its proposal, the proposing entity's Authorized Organizational Representative certifies that the entity is in compliance with the William M. (Mac) Thornberry National Defense Authorization Act for Fiscal Year 2021, Section 223(a)(1) (42 U.S.C. 6605(a)(1)), and that each senior/key person that is employed by the entity and listed on the application has been made aware of the requirements under Section 223(a)(1). Section 223(a)(1) provides that “each covered individual listed on the application—(A) disclose the amount, type, and source of all current and pending research support received by, or expected to be received by, the individual as of the time of the disclosure; (B) certify that the disclosure is current, accurate, and complete; and (C) agree to update such disclosure at the request of the agency prior to the award of support and at any subsequent time the agency determines appropriate during the term of the award.”

C6. Certification Regarding Malign Foreign Talent Recruitment Programs per the CHIPS and Science Act of 2022, Section 10632 (42 U.S.C. 19232).

Per Section 10632 of the CHIPS and Science Act of 2022 (42 U.S.C. 19232), the entity's Authorized Organizational Representative certifies that each senior/key person that is employed by the entity and listed on the application has been made aware of and has complied with their responsibility under that section to certify that they are not a party to a malign foreign talent recruitment program.

7. Award Terms and Conditions, Are Revised as Follows

D40. Current and Pending Support Disclosure Requirements

(a) All NASA grant and cooperative agreement recipients shall comply with the current and pending support disclosure requirements in section 2, Current and Pending Support Disclosures, of this document. Per section 2, senior/key personnel shall make new disclosures by submitting an updated current and pending support form as part of their performance reports. See the NASA Pre-award and Post-award Disclosure Requirements table for more information on which new activities must be reported as part of performance reports.

(b) If an entity discovers that a senior/key person has failed to disclose reportable information in accordance with section 2, Current and Pending Support Disclosures, then the entity shall notify NASA within 30 calendar days of the discovery. Authorized Organizational Representatives, or a delegate, shall submit a current and pending support form that includes information for the undisclosed activity only, and the form shall be submitted to the cognizant NASA Grant Officer(s). AORs or their delegates are not required to sign the certification on the current and pending support form as that certification is intended only for senior/key personnel.

D41. Malign Foreign Talent Recruitment Programs

(a) All NASA grant and cooperative agreement recipients shall comply with the malign foreign talent recruitment program (MFTRP) prohibitions described in section 4, Malign Foreign Talent Recruitment Programs, of this document. Per section 4, individuals who are a party to a MFTRP shall not serve as senior/key personnel on a NASA grant or cooperative agreement. The definition of MFTRP can be found at 42 U.S.C. 19237(4). All Principal Investigators (PIs), all Co-Principal Investigators (CoPIs), and Co-Investigators (Co-Is) proposing to spend 10 percent or more of their time in any given year on a NASA-funded grant or cooperative agreement are designated as senior/key personnel.

(b) 42 U.S.C. 19232(a)(1) requires senior/key personnel listed in proposals to certify annually for the duration of a Federal award that each such individual is not a party to a MFTRP. As such, all NASA award recipients shall ensure that senior/key personnel have signed annually a certification stating that they are not a party to a MFTRP. These annual certifications do not have to be submitted to NASA, but award recipients shall maintain them in their grant files and make them available to NASA upon request in accordance with 2 CFR 200.334, Retention requirements for records, and 200.337, Access to records.

Laila Ouhamou,
Senior Policy Analyst, National Aeronautics and Space Administration.

[FR Doc. 2024-14170 Filed 6-27-24; 8:45 am]

BILLING CODE 7510-13-P